DEPARTMENT OF THE TREASURY

Office of Foreign Assets Control

Designation of Five Individuals and Two Entities Pursuant to Executive Order 13438

AGENCY: Office of Foreign Assets Control, Treasury.

ACTION: Notice.

SUMMARY: The Treasury Department's Office of Foreign Assets Control (“OFAC”) is publishing the names of five newly designated individuals and two newly designated entities whose property and interests in property are blocked pursuant to Executive Order 13438 of July 17, 2007, “Blocking Property of Certain Persons Who Threaten Stabilization Efforts in Iraq.”

DATES: The designation by the Secretary of the Treasury of the five individuals and two entities identified in this notice pursuant to Executive Order 13438 is effective on September 16, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On July 17, 2007, the President issued Executive Order 13438 (the “Order”) pursuant to the International Emergency Economic Powers Act, 50 U.S.C. 1701 et seq., the National Emergencies Act, 50 U.S.C. 1601 et seq., and section 301 of title 3, United States Code. In the Order, the President declared a national emergency to address the threat to the national security and foreign policy of the United States posed by acts of violence threatening the peace and stability of Iraq and undermining efforts to promote economic reconstruction and political reform in Iraq and to provide humanitarian assistance to the Iraqi people.

Section 1 of the Order blocks, with certain exceptions, all property and interests in property that are in the United States, that hereafter come within the United States, or that are or hereafter come within the possession or control of United States persons, including any overseas branch, of the following persons: persons who are determined by the Secretary of the Treasury, in consultation with the Secretary of State and the Secretary of Defense, (1) to have committed, or to pose a significant risk of committing, an act or acts of violence that have the purpose or effect of threatening the peace or stability of Iraq or the Government of Iraq, or undermining efforts to promote economic reconstruction and political reform in Iraq or to provide humanitarian assistance to the Iraqi people; (2) to have materially assisted, sponsored, or provided financial, material, or technical support for, or goods or services in support of, such an act or acts of violence or any person whose property and interests in property are blocked pursuant to the Order; or (3) to be owned or controlled by, or to have acted or purported to act for or on behalf of, directly or indirectly, any person whose property and interests in property are blocked pursuant to the Order.

On September 16, 2008, the Secretary of the Treasury, in consultation with the Secretary of State and the Secretary of Defense, designated, pursuant to one or more of the criteria set forth in the Order, five individuals and two entities whose property and interests in property are blocked pursuant to Executive Order 13438.

The list of designees is as follows:

1. SHAHLAI, Abdul Reza (a.k.a. SHAHLAEE, Abdul-Reza; a.k.a. SHAHLAI, Abdol Reza; a.k.a. SHAHLA'I, Abdolreza; a.k.a. SHAHLAI, 'Abdorreza; a.k.a. SHALAI, 'Abd-al Reza; a.k.a. SHALA'I, Abdul Reza; a.k.a. “ABU-AL-KARKH', 'Yusuf”; a.k.a. “YASIR, Hajji”; a.k.a. “YUSEF, Hajj”; a.k.a. “YUSIF, Haji”; a.k.a. “YUSIF, Hajji”), Kermanshah, Iran; Mehran Military Base, Ilam Province, Iran; DOB circa 1957.

2. AL-KABI, Arkam 'Abbas (a.k.a. AL-KA'ABI, Shaykh Abu-Akram; a.k.a. AL-KA'ABI, Sheik Akram; a.k.a. AL-KA'BI, Akram Abas; a.k.a. “ABU-MUHAMMAD”; a.k.a. “'ALI, Abu”; a.k.a. “KARUMI”); DOB circa 1976; alt. DOB circa 1973; POB al 'Amarah, Iraq; alt. POB al Kalamiy, Iraq; nationality Iraq.

3. AL-DARI, Harith Sulayman (a.k.a. AL DARI, Hareth; a.k.a. AL-DARI AL-ZAWBAI, Harith; a.k.a. AL-DARI, Harith; a.k.a. AL-DAURI, Hareth; a.k.a. AL-DHARI, Harith; a.k.a. AL-DHARI, Harith S.; a.k.a. AL-DURI, Harith; a.k.a. DARI AL-ZAWBA'I, Harith), Abu Ghuraib, Iraq; Jordan; Akashat, Iraq; Qatar; Egypt; DOB 1941; POB Baghdad, Iraq; citizen Iraq; nationality Iraq; Passport N348171/IRAQ (Iraq).

4. AL-UBAYDI, Ahmad Hassan Kaka (a.k.a. AL NOBANI, Ali; a.k.a. AL-OBEIDI, Ahmed Hassan Kaka; a.k.a. HAZIM KAKA), Al Humayra Village, Taza sub district, Iraq; Kurdi Al Nasir village, Iraq; DOB 1949; POB Baghdad, Iraq; nationality Iraq; Passport F032516 (Iraq) issued 4 May 1976.

5. AL-USTA, Raw'a (a.k.a. AL-ASTAH, Raw'ah; a.k.a. AL-OUSTA, Raw'a; a.k.a. ALOUSTA, Rawaa; a.k.a. AL-'USTA, Rawa; a.k.a. AL-USTA, Raw'ah; a.k.a. AL-USTAH, Raw'ah), Damascus, Syria; DOB 1982; nationality Syria.

6. AL-RA'Y SATELLITE TELEVISION CHANNEL (a.k.a. AL RAIE TV CHANNEL; a.k.a. AL RA'Y SATELLITE TELEVISION STATION; a.k.a. AL RA'Y TV; a.k.a. AL-RA'I SATELLITE CHANNEL; a.k.a. AL-RA'Y SATELLITE CHANNEL; a.k.a. ARRAI TV; a.k.a. SATELLITE TELEVISION CHANNEL AL RA'Y; a.k.a. THE OPINION SATELLITE TELEVISION CHANNEL), Near Damascus in the Yaafur area, Syria; e-mail address info@arrai.tv; Web site www.arrai.tv.

7. SURAQIYA FOR MEDIA AND BROADCASTING (a.k.a. SBC TELEVISION; a.k.a. SBC TV; a.k.a. SORAQIA FOR MEDIA AND BROADCASTING; a.k.a. SORAQIYA FOR MEDIA AND BROADCASTING), Al Sufara' Street in the Ya'fur district, Damascus, Syria.

Dated: September 16, 2008.
Adam J. Szubin,
Director, Office of Foreign Assets Control.

[FR Doc. E8-22199 Filed 9-22-08; 8:45 am]

BILLING CODE 4811-45-P